SECURITIES AND EXCHANGE COMMISSION

[File No. 500-1]

A.C.L.N. Ltd.; Order of Suspension of Trading

It appears to the Securities and Exchange Commission (“Commission”), based on information provided to the Commission staff, that there is a lack of adequate and accurate information concerning the management, business practices and results of operations of A.C.L.N. Ltd. (“ACLN”), of Limassol, Cyprus and Antwerp, Belgium. The securities of ACLN are registered with the Commission pursuant to section 12(b) of the Securities Exchange Act of 1934 (“Exchange Act”). Its common stock is listed for trading on the New York Stock Exchange under the symbol ASW, and its options are traded through the Amex system. Information has been provided to the Commission staff raising concerns as to the adequacy and accuracy of ACLN's publicly disseminated information concerning, among other things, the following:

• The bases for ACLN's financial and other disclosure, as contained in its annual report on Form 20-F for the fiscal year ended December 31, 2000 (“2000 Form 20-F”), report on Form 6-K for the quarter ending September 30, 2001 and other public statements, concerning the revenue and income obtained by ACLN from its new car wholesale business, the volume of that business and the source of the cars sold;

• The bases for ACLN's financial and other public disclosure in its 2000 Form 20-F and in its December 21, 2001 press release concerning the ownership of the shipping vessel, the Sea Atef, and the bases under generally accepted accounting principles for claiming it as a $5.5 million asset, even though documents of title indicate that the vessel is jointly owned by persons or entities other than ACLN;

• The bases for ACLN's financial and other disclosure in its report on Form 6-K for the quarter ending September 30, 2001 concerning the revenue and income ACLN obtained from arranging the transportation of used cars, including its reported increase of approximately $60 million in revenue for the first nine months of 2001 over the same period of 2000;

• The bases for the statements in ACLN's February 5, 2002 press release announcing that it had acquired a majority interest in five companies, each of which owns a “pure car and truck carrier vessel;”

• The business relationship and the nature of all financial transactions between ACLN and Matina Forwarding and Trading, also known as MFT;

• The source and subsequent use of funds claimed by ACLN as a corporate asset on its financial statements for the fiscal year ending December 31, 2000 and the fiscal quarter ending September 30, 2001, and deposited at the BNP Paribas Bank, Luxembourg; and

• The bases for the nondisclosure in any Commission filing the warrant issued by Tunisian authorities for the arrest of Abderrazak Labiadh, ACLN's President, CEO, and Managing Director, for allegedly misappropriating funds from a Tunisian company he founded.

The Commission is of the opinion that the public interest and the protection of investors require a suspension of trading in the securities of ACLN.

Therefore, it is ordered that, pursuant to section 12(k) of the Exchange Act, trading in the securities of ACLN is suspended for the period from 9:30 a.m. EST, March 18, 2002, through 11:59 p.m. EST, on April 1, 2002.

The Commission cautions broker-dealers and current and prospective holders of ACLN securities that they should carefully consider the foregoing information along with all other currently available information and any information subsequently issued by ACLN.

Further, brokers and dealers should be aware of the requirements of Rule 15c2-11 under the Exchange Act to the initiation of quotations at the termination of the trading suspension. Any broker or dealer having any questions as to whether or not the rule applies or whether the broker or dealer has complied with the rule should not enter any quotation but immediately contact the staff of the Securities and Exchange Commission in Washington, D.C.

Any broker or dealer uncertain as to what is required by Rule 15c2-11, should refrain from entering quotations relating to the securities of ACLN until such time as that broker or dealer is familiar with the rule and is certain that all of its provisions have been met. If any broker or dealer enters any quotation for the stock of ACLN that is in violation of the rule, the Commission will consider the need for prompt enforcement action.

By the Commission.
Jill M. Peterson,
Assistant Secretary.

[FR Doc. 02-6819 Filed 3-18-02; 11:42 am]

BILLING CODE 8010-01-M